NUCLEAR REGULATORY COMMISSION

Sunshine Act; Notice of Meetings

Agency Holding the Meetings: Nuclear Regulatory Commission.

DateS: Week of January 30, 2006.

Place: Commissioners' Conference Room 11555 Rockville Pike, Rockville, Maryland.

Status: Public and closed.

Matters to be Considered:

Week of January 30, 2006

Thursday, February 2, 2006

1:25 p.m. Affirmation Session (Public Meeting) (Tentative)

a. U.S. Department of Energy (High-Level Waste Repository: Pre-Application Matters); NRC Staff and DOE appeals of LBP-05-27 (Tentative).

b. Nuclear Management Company, LLC (Monticello Nuclear Generating Plant); “appeal” by North American Water Office (“NAWO”), of LBP-05-31 (Tentative).

* * * * *

By a vote of 5-0 on January 30, 2006, the Commission determined pursuant to U.S.C. 552b(e) and § 9.107(a) of the Commission's rules that “Affirmation of U.S. Department of Energy (High-Level Waste Repository; Pre-Application Matters); NRC Staff and Doe appeals of LBP-05-27” be held February 2, 2006, and on less than one week's notice to the public.

By a vote of 4-1 on January 30, 2006, the Commission determined pursuant to U.S.C. 552b(e) and § 9.107(a) of the Commission's rules that “Affirmation of Nuclear Management Company, LLC (Monticello Nuclear Generating Plant); “appeal” by North American Water Office (“NAWO”), of LBP-05-31” be held February 2, 2006, and on less than one week's notice to the public.

*The schedule for Commission meetings is subject to change on short notice. To verify the status of meetings call (recording)—(301) 415-1292. Contact person for more information: Michelle Schroll, (301) 415-1662.

* * * * *

The NRC Commission Meeting Schedule can be found on the Internet at: http://www.nrc.gov/what-we-do/policy-making/schedule.html

* * * * *

The NRC provides reasonable accommodation to individuals with disabilities where appropriate. If you need a reasonable accommodation to participate in these public meetings, or need this meeting notice or the transcript or other information from the public meetings in another format (e.g., braille, large print), please notify the NRC's Disability Program Coordinator, August Spector, at 301-415-7080, TDD: 301-415-2100, or by e-mail at aks@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: January 31, 2006.
R. Michelle Schroll,
Office of the Secretary.

[FR Doc. 06-1055 Filed 2-1-06; 11:49 am]

BILLING CODE 7590-01-M